DEPARTMENT OF TRANSPORTATION

Office of the Secretary

[Docket No. DOT-OST-2010-0054]

RIN 2105-AD04

Application To Renew Information Collection Request OMB No. 2105-0551

AGENCY: Office of the Secretary, Department of Transportation (Department).

ACTION: Notice and request for comments

SUMMARY: In accordance with the Paperwork Reduction Act of 1995 (44 U.S.C. Chapter 35, as amended) this notice announces the Department's intention to apply to the Office of Management and Budget (OMB) to renew approval of the information collection request (ICR) OMB No. 2105-0551, “Reporting Requirements for Disability-Related Complaints.” The current information collection request approved by OMB expires August 31, 2010.

DATES: Comments on this notice must be received by May 7, 2010.

ADDRESSES: You may submit comments [identified by Docket No. DOT-OST-2010-xxxxx] through one of the following methods:

• Federal eRulemaking Portal: http://www.regulations.gov. Follow the online instructions for submitting comments.

• Fax: 1-202-493-2251.

• Mail: Docket Management Facility, U.S. Department of Transportation, 1200 New Jersey Avenue, SE., Washington, DC 20590.

• Hand Delivery: West Building, Ground Floor, Rm. W-12-140, 1200 New Jersey Ave., SE., Washington, DC 20590-0001 (between 9 a.m. and 5 p.m. EST, Monday through Friday, except on Federal holidays).

FOR FURTHER INFORMATION CONTACT: Vinh Q. Nguyen or Blane A. Workie, Office of the General Counsel, Office of the Secretary, U.S. Department of Transportation, 1200 New Jersey Avenue, SE., Washington, DC, 20590, 202-366-9342 (Voice), 202-366-7152 (Fax), or vinh.nguyen@dot.gov or blane.workie@dot.gov (E-mail). Arrangements to receive this document in an alternative format may be made by contacting the above-named individuals.

SUPPLEMENTARY INFORMATION: Title: Reporting Requirements for Disability-Related Complaints.

OMB Control Number: 2105-0551.

Type of Request: Renewal of currently approved Information Collection Request.

Background: On July 8, 2003, the Office of the Secretary published a final rule that requires most certificated U.S. and foreign air carriers operating to, from and within the U.S. that conduct passenger-carrying service utilizing large aircraft to record complaints that they receive alleging inadequate accessibility or discrimination on the basis of disability. The carriers must also categorize these complaints according to the type of disability and nature of complaint, prepare a summary report annually of the complaints received during the preceding calendar year, submit the report to the Department's Aviation Consumer Protection Division, and retain copies of correspondence and records of action taken on the reported complaints for three years. The rule requires carriers to submit their annual report via the World Wide Web except if the carrier can demonstrate an undue burden in doing so and receives permission from the Department to submit it in an alternative manner. The first required report covering calendar year 2004 was due to the Department on January 24, 2005, the second report covering calendar year 2005 was due on January 30, 2006, the third report covering calendar year 2006 was due on January 29, 2007, the fourth report covering calendar year 2007 was due on January 28, 2008, and the fifth report covering calendar year 2008 was due on January 26, 2009. Subsequent reports of disability-related complaints received by carriers are due each year on the last Monday in January for the prior calendar year. On August 24, 2007, OMB approved information collection of disability-related complaints, “Reporting Requirements for Disability-related Complaints” through August 31, 2010.

Respondents: Certificated U.S. and foreign air carriers operating to, from, and within the United States that conduct passenger-carrying service with large aircraft.

Estimated Number of Respondents: 370.

Estimated Total Burden on Respondents: 185 hours.

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record.

Issued in Washington, DC on March 3, 2010.
Samuel Podberesky,
Assistant General Counsel for Aviation Enforcement and Proceedings, U.S. Department of Transportation.

[FR Doc. 2010-4852 Filed 3-5-10; 8:45 am]

BILLING CODE 4910-9X-P